DEPARTMENT OF DEFENSE

Department of the Navy

Notice of Availability of Government-Owned Inventions; Available for Licensing

AGENCY: Department of the Navy, DoD.

ACTION: Notice.

SUMMARY: The Department of the Navy hereby gives notice of the availability of exclusive or partially exclusive licenses to practice worldwide under the following pending patents. Any license granted shall comply with 35 U.S.C. 209 and 37 CFR part 404. Applications will be evaluated utilizing the following criteria: (1) Ability to manufacture and market the technology; (2) manufacturing and marketing ability; (3) time required to bring technology to market and production rate; (4) royalties; (5) technical capabilities; and (6) small business status.

U.S. Patent application Serial Number 10/855,325 entitled, “A Method for the Rapid Diagnosis of Infectious Disease by Detection and Quantitation of Microorganism Induced Cytokines” filed on May 28, 2004. The invention relates to a method of diagnosing infectious disease, including tuberculosis, by quantitating interferon-gamma and other cytokine concentrations from stimulated immune cells collected from whole blood. The method contemplates the use of FLT, FRET or FP.

DATES: Applications for a nonexclusive, exclusive, or partially exclusive license may be submitted at any time from the date of this notice.

ADDRESSES: Submit application to the Office of Technology Transfer, Naval Medical Research Center, 503 Robert Grant Ave., Silver Spring, MD 20910-7500.

FOR FURTHER INFORMATION CONTACT: Dr. Charles Schlagel, Director, Office of Technology Transfer, Naval Medical Research Center, 503 Robert Grant Ave., Silver Spring, MD 20910-7500, telephone 301-319-7428, or E-Mail schlagelc@nmrc.navy.mil.

Dated: June 1, 2006.
M.A. Harvison,
Lieutenant Commander, Judge Advocate General's Corps, U.S. Navy, Federal Register Liaison Officer.

[FR Doc. E6-8903 Filed 6-7-06; 8:45 am]

BILLING CODE 3810-FF-P